DEPARTMENT OF COMMERCE

International Trade Administration

[A-552-802]

Notice of Amended Final Determination of Sales at Less Than Fair Value and Antidumping Duty Order: Certain Frozen Warmwater Shrimp From the Socialist Republic of Vietnam ¹

AGENCY: Import Administration, International Trade Administration, Department of Commerce.

DATES: Effective Date: February 1, 2004.

FOR FURTHER INFORMATION CONTACT: Alex Villanueva, AD/CVD Operations, Office 9, Import Administration, International Trade Administration, U.S. Department of Commerce, 14th Street and Constitution Avenue NW., Washington, DC 20230; telephone: (202) 482-3208.

¹ On January 21, 2005, the International Trade Commission (“ITC”) notified the Department of its final determination that two domestic like products exist for the merchandise covered by the Department's investigation: (i) Certain non-canned warmwater shrimp and prawns, and (ii) canned warmwater shrimp and prawns. The ITC determined that there is no injury regarding imports of canned warmwater shrimp and prawns from Vietnam, therefore, canned warmwater shrimp and prawns will not be covered by the antidumping order.

Amendment to the Final Determination

In accordance with sections 735(d) and 777(i)(1) of the Tariff Act of 1930, as amended, (“the Act”) on December 8, 2004, the Department of Commerce (“the Department”) published its final determination of sales at less than fair value (“LTFV”) in the investigation of certain frozen and canned warmwater shrimp from the Socialist Republic of Vietnam (“Vietnam”). See Notice of Final Determination of Sales at Less Than Fair Value: Certain Frozen and Canned Warmwater Shrimp from the Socialist Republic of Vietnam, 69 FR 71005 (December 8, 2004) (“Final Determination”). See Final Determination and corresponding “Issues and Decision Memorandum” dated November 29, 2004; see also Memorandum from Nicole Bankhead, Case Analyst, through Alex Villanueva, Program Manager, to James Doyle, Office Director, Antidumping Duty Investigation of Certain Frozen and Canned Warmwater Shrimp from the Socialist Republic of Vietnam: Final Determination Separate Rates Memorandum for Section A Respondents, dated November 29, 2004 (“Final Separate Rates Memo”).

Between December 7, 2004, and December 13, 2004, the following parties filed timely allegations that the Department made various ministerial errors in the Final Determination. On December 7, 2004, five Section A Respondents, Truc An Company (“Truc An”), Hai Thuan Export Seaproducts Processing Co., Ltd. (“Hai Thuan”), Nha Trang Fisheries Co., Ltd. (“Nha Trang Fisheries”), Ngoc Sinh Seafoods (“Ngoc Sinh”), and Phuong Nam Co., Ltd. (“Phuong Nam”), which had been denied a separate rate by the Department in the Final Determination, filed timely requests pursuant to 19 CFR 351.224(e)(1) and (2) requesting that the Department correct alleged ministerial errors in the Final Determination. Also on December 7, 2004, the VASEP Shrimp Committee filed ministerial errors regarding additional names to provide in the Department's instructions to the U.S. Customs and Border Protection (“CBP”) to be issued after the final determination. Camau Frozen Seafood Processing Import Export Corporation (“Camimex”), Minh Phu Seafood Corporation (“Min Phu”) and Minh Hai Joint Stock Seafoods Processing Company (“Seaprodex Minh Hai”), hereinafter collectively referred to as “the Mandatory Respondents,” also filed timely allegations that the Department made ministerial errors in the Final Determination. The Ad Hoc Shrimp Trade Action Committee, Versaggi Shrimp Corporation and Indian Ridge Shrimp Company, hereinafter referred to collectively as “Petitioners,” filed timely allegations that the Department made ministerial errors in the Final Determination.

Additionally, on December 7, 2004, Red Chamber on behalf of Phuong Nam filed timely allegations that the Department made ministerial errors in the Final Determination. However, because Red Chamber submitted new information in its error allegation, the Department sent Red Chamber a letter requesting that it retract the new information from its December 7, 2004, filing in accordance with section 351.302(d) of the Department's regulations and re-submit it without the new information on December 13, 2004. On December 17, 2004, Red Chamber re-submitted its ministerial error allegation without the new information.

On December 13, 2004, Petitioners filed comments rebutting the Section A Respondents' and Mandatory Respondents' ministerial error allegations. The Mandatory Respondents also submitted comments on December 13, 2004, rebutting Petitioners' ministerial error allegations.

On December 16, 2004, Eastern Fish Company, Inc. (“Eastern Fish”), an importer of frozen shrimp and interested party in these investigations, and Long John Silver's, Inc. (“LJS”), a purchaser of shrimp imported by Eastern Fish filed reply comments rebutting Petitioners' ministerial error allegations. On December 17, 2004, Petitioners filed a letter requesting the Department to reject Eastern Fish and LJS's untimely filing. On December 21, 2004, Eastern Fish and LJS filed additional reply comments to Petitioners' ministerial error allegations. Eastern Fish and LJS's December 16, 2004, and the December 21, 2004, submissions were rejected as replies to comments “must be filed within five days after the date on which the comments were filed with the Secretary.” See Section 351.224(c)(3) of the Department's regulations. See Letter from Alex Villanueva, Program Manager, China/NME Unit, Office IX to Eastern Fish and LJS Regarding Ministerial Error Allegation Rebuttal Comments, dated January 26, 2005.

A ministerial error is defined as an error in addition, subtraction, or other arithmetic function, clerical error resulting from inaccurate copying, duplication, or the like, and any other similar type of unintentional error which the Department considers ministerial. See 19 CFR 351.224(f).

After analyzing all interested party comments and rebuttals, we have determined, in accordance with 19 CFR 351.224(e), that we made ministerial errors in our calculations performed for the final determination. For a detailed discussion of these ministerial errors, as well as the Department's analysis, see Antidumping Duty Investigation of Certain Frozen Warmwater Shrimp from the Socialist Republic of Vietnam: Analysis of Allegations of Ministerial Error from the Mandatory Respondents and Section A Respondents, dated January 26, 2005. Additionally, in the Final Determination, we determined that several companies qualified for a separate-rate. The margin we calculated in the Final Determination for these companies was 4.38 percent. Because the rates of the selected mandatory respondents have changed since the Final Determination, we have recalculated the rate for Section A respondents. The rate is 4.57 percent. See Memorandum to the File from Paul Walker, Amended Calculation of Section A Rate, dated January 26, 2005.

Therefore, in accordance with 19 CFR 351.224(e), we are amending the final determination of sales at LTFV in the antidumping duty investigation of certain frozen warmwater shrimp from Vietnam. The revised weighted-average dumping margins are in the “Antidumping Duty Order” section, below.

Antidumping Duty Order

In accordance with section 735(a) of the Act, the Department made its final determination that certain frozen and canned warmwater shrimp from Vietnam is being, or is likely to be, sold in the United States at LTFV as provided in section 735 of the Act. See Final Determination. On January 21, 2005, the ITC notified the Department of its final determination pursuant to section 735(b)(1)(A)(i) of the Act that an industry in the United States is materially injured by reason of LTFV imports of subject merchandise from Vietnam. In its final determination, however, the ITC determined that two domestic like products exist for the merchandise covered by the Department's investigation: (i) Certain non-canned warmwater shrimp and prawns, as defined below, and (ii) canned warmwater shrimp and prawns. The ITC determined pursuant to section 735(b)(1) that a domestic industry in the United States is not materially injured or threatened with material injury by reason of imports of canned warmwater shrimp and prawns from Vietnam. Therefore, the ITC's affirmative determination of material injury covered all certain non-canned warmwater shrimp and prawns other than those specifically excluded under the “Scope of the Order” section below. Accordingly, the scope of the antidumping duty order has been amended as described below to reflect the ITC's distinction between canned warmwater shrimp and prawns and certain non-canned warmwater shrimp and prawns. Specifically, canned warmwater shrimp and prawns are excluded from the scope of the order.

In cases where the ITC specifically excludes a product in its final injury determination, the Department may exclude that product from its final margin calculation. See Antidumping Duty Orders; Certain Stainless Steel Plate in Coils From Belgium, Canada, Italy, the Republic of Korea, South Africa, and Taiwan, 64 FR 27756 (May 21, 1999). However, because the Mandatory Respondents did not export or sell canned warmwater shrimp and prawns to the United States during the POI, no recalculation of the antidumping margins is warranted, and therefore we are not amending the final determination calculations to exclude any sales of canned warmwater shrimp and prawn products.

In accordance with section 736(a)(1) of the Act, the Department will direct CBP to assess, upon further instruction by the Department, antidumping duties equal to the amount by which the normal value of the merchandise exceeds the export price of the merchandise for all relevant entries of certain frozen warmwater shrimp from Vietnam. These antidumping duties will be assessed on all unliquidated entries of certain frozen warmwater shrimp from Vietnam entered, or withdrawn from the warehouse, for consumption on or after July 16, 2004, the date on which the Department published its Notice of Preliminary Determination of Sales at Less Than Fair Value, Negative Preliminary Determination of Critical Circumstances and Postponement of Final Determination: Certain Frozen and Canned Warmwater Shrimp from the Socialist Republic of Vietnam (“Preliminary Determination”) 69 FR 42672 (July 16, 2004).

Section 733(d) of the Act states that instructions issued pursuant to an affirmative preliminary determination may not remain in effect for more than four months except where exporters representing a significant proportion of exports of the subject merchandise request the Department to extend that four-month period to no more than six months. At the request of exporters that account for a significant proportion of certain frozen and canned warmwater shrimp, we extended the four-month period to no more than six months. See Preliminary Determination. In this investigation, the six-month period beginning on the date of the publication of the Preliminary Determination ended on January 12, 2005. Definitive duties are to begin on the date of publication of the ITC's final injury determination. See Section 737 of the Act. Therefore, in accordance with section 733(d) of the Act and our practice, we will instruct CBP to terminate the suspension of liquidation and to liquidate, without regard to antidumping duties, unliquidated entries of certain frozen and canned warmwater shrimp from Vietnam entered, or withdrawn from warehouse, for consumption on or after January 12, 2005, and before the date of publication of the ITC 's final injury determination in the Federal Register. Suspension of liquidation will continue on or after this date.

On or after the date of publication of the ITC's notice of final determination in the Federal Register, CBP will require, at the same time as importers would normally deposit estimated duties on this merchandise, a cash deposit equal to the estimated weighted-average antidumping duty margins as listed below. The “Vietnam-wide” rate applies to all exporters of subject merchandise not listed specifically. Imports of the noted canned warmwater shrimp and prawns will not be covered by this order. We determine that the following percentage weighted-average margins exist for the POI:

Certain Frozen Warmwater Shrimp From Vietnam
Manufacturer/exporter | Weighted-average margin (percent)
Mandatory Respondents
Camau Frozen Seafood Processing Import Export Corporation ² | 5.24
Kim Anh Company Limited ³ | 25.76
Minh Phu Seafood Corporation ⁴ | 4.38
Minh Hai Joint Stock Seafoods Processing Company ⁵ | 4.30
Vietnam-Wide Margin | 25.76
Section A Respondents
Amanda Foods (Vietnam) Ltd.⁶ | 4.57
Aquatic Products Trading Company ⁷ | 4.57
Bac Lieu Fisheries Company Limited ⁸ | 4.57
Coastal Fisheries Development Corporation ⁹ | 4.57
Cai Doi Vam Seafood Import-Export Company ¹⁰ | 4.57
Cam Ranh Seafoods Processing Enterprise Company ¹¹ | 4.57
Can Tho Agriculture and Animal Products Import Export Company ¹² | 4.57
Cantho Animal Fisheries Product Processing Export Enterprise ¹³ | 4.57
C.P. Vietnam Livestock Co. Ltd. | 4.57
Cuu Long Seaproducts Company ¹⁴ | 4.57
Danang Seaproducts Import Export Corporation ¹⁵ | 4.57
Hanoi Seaproducts Import Export Corporation ¹⁶ | 4.57
Investment Commerce Fisheries Corporation ¹⁷ | 4.57
Kien Giang Sea-Product Import-Export Company ¹⁸ | 4.57
Minh Hai Export Frozen Seafood Processing Joint-Stock Company ¹⁹ | 4.57
Minh Hai Seaproducts Import Export Corporation ²⁰ | 4.57
Ngoc Sinh Private Enterprise ²¹ | 4.57
Nha Trang Fisheries Joint Stock Company ²² | 4.57
Nha Trang Seaproduct Company ²³ | 4.57
Pataya Food Industries (Vietnam) Ltd.²⁴ | 4.57
Phu Cuong Seafood Processing and Import-Export Company Limited ²⁵ | 4.57
Phuong Nam Co. Ltd.²⁶ | 4.57
Sao Ta Foods Joint Stock Company ²⁷ | 4.57
Soc Trang Aquatic Products and General Import Export Company ²⁸ | 4.57
Song Huong ASC Import-Export Company Ltd.²⁹ | 4.57
Thuan Phuoc Seafoods and Trading Corporation ³⁰ | 4.57
UTXI Aquatic Products Processing Company ³¹ | 4.57
Viet Foods Co., Ltd.³² | 4.57
Viet Nhan Company | 4.57
Viet Hai Seafood Company Ltd.³³ | 4.57
Vinh Loi Import Export Company ³⁴ | 4.57
² Also known as Camimex and Camau Seafood Factory No. 4.
³ Not a separate rate.
⁴ Also known as Minh Phu Seafood Export-Import Corporation, Minh Phu, Minh Phu Seafood Pte., Minh Qui Seafood Co. Ltd., Minh Qui, Minh Phat Seafood Co. Ltd. and Minh Phat.
⁵ Also known as Seaprodex Minh Hai.
⁶ Also known as Amanda VN and Amanda.
⁷ Also known as APT and A.P.T. Co.
⁸ Also known as Bac Lieu, BACLIEUFIS, Bac Lieu Fis, Bac Lieu Fisheries Co. Ltd., Bac Lieu Fisheries Limited Company and Bac Lieu Fisheries Company Ltd.
⁹ Also known as COFIDEC.
¹⁰ Also known as Cadovimex.
¹¹ Also known as Cam Ranh.
¹² Also known as Cataco, Duyen Hai Foodstuffs Processing Factory, Caseafood, Coseafex and Cantho Seafood Export.
¹³ Also known as Cafatex, Cafatex Vietnam, Xi Nghiep Che Bien Thuy Suc San Xuat Khau Can Tho, CAS, CAS Branch, Cafatex Saigon, Cafatex Fishery Joint Stock Corporation, Cafatex Corporation and Taydo Seafood Enterprise.
¹⁴ Also known as Cuu Long Seapro.
¹⁵ Also known as Seaprodex Danang, Tho Quang Seafood Processing and Export Company and Tho Quang.
¹⁶ Also known as Seaprodex Hanoi.
¹⁷ Also known as INCOMFISH, Investment Commerce Fisheries Corp., INCOMFISH CORP. and INCOMFISH CORPORATION.
¹⁸ Also known as KISIMEX, Kien Giang Seaproduct Import & Export Company, Kien Giang Seaproduct Import and Export Company, Kien Giang Seaproduct Import Export Co., Kien Giang Sea Product Import & Export Co., Kien Giang Sea Product Import and Export Company, Kien Giang Sea Product Import & Export Company, Kien Giang Sea Product Import & Export Co. and Kien Giang Sea Product Im. & Ex. Co.
¹⁹ Also known as Minh Hai Jostoco.
²⁰ Also known as Seaprimexco.
²¹ Also known as Ngoc Sinh Seafoods, Ngoc Sinh Fisheries, Ngoc Sinh Private Enterprises, Ngoc Sinh Seafoods Processing and Trading Enterprises and Ngoc Sinh.
²² Also known as Nhatrang Fisheries Joint Stock Company, Nha Trang Fisco and Nhatrang Fisco.
²³ Also known as Nha Trang Seafoods.
²⁴ Also known as Pataya VN.
²⁵ Also known as Phu Cuong Seafood Processing Import-Export Company Ltd., Phu Cuong Co., Phu Cuong, Phu Cuong Seafood Processing & Import-Export Co. Ltd., Phu Cuong Seafood Processing, Phu Cuong Co. Ltd. and Phu Cuong Seafood Processing Import & Export Company Limited.
²⁶ Also known as Phuong Nam Company Limited and Phuong Nam.
²⁷ Also known as Fimex VN, Saota Seafood Factory and Sao Ta Seafood Factory.
²⁸ Also known as STAPIMEX.
²⁹ Also known as Song Huong ASC Joint Stock Company, SOSEAFOOD, ASC, Song Huong Import Export Seafood Joint Stock Company, Song Huong Import-Export Seafood Joint Stock Company, Song Huong Import Export Seafood Company, Song Huong Seafood Import-Export Company, Song Huong Seafood Import Export Co., Song Huong Seafood Im-Export Co., SongHuong and Songhuong Joint Stock Company.
³⁰ Also known as Frozen Seafoods Factory No. 32.
³¹ Also known as UTXI, UTXI Co. Ltd., UT XI Aquatic Products Processing Company and UT-XI Aquatic Products Processing Company.
³² Also known as Viet Foods, Nam Hai Exports Food Stuff Limited, Nam Hai Export Foodstuff Company Ltd., Vietfoods Co. Ltd., Viet Foods Company Limited and Vietfoods Company Limited.
³³ Also known as Vietnam FishOne, Vietnam Fish-One Company Co. Ltd., Vietnam Fish-One, Vietnam Fish-One Co. Ltd., Vietnam Fish One Co. Ltd., Vietnam Fish One Company Limited and Vietnam Fish-One Company Limited.
³⁴ Also known as VIMEXCO, Vinh Loi Import/Export Co., VIMEX, VinhLoi Import Export Company and Vinh Loi Import-Export Company.

Scope of the Order

The scope of this order includes certain warmwater shrimp and prawns, whether frozen, wild-caught (ocean harvested) or farm-raised (produced by aquaculture), head-on or head-off, shell-on or peeled, tail-on or tail-off,³⁵ deveined or not deveined, cooked or raw, or otherwise processed in frozen form.

³⁵ “Tails” in this context means the tail fan, which includes the telson and the uropods.

The frozen warmwater shrimp and prawn products included in the scope of this investigation, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this investigation. In addition, food preparations, which are not “prepared meals,” that contain more than 20 percent by weight of shrimp or prawn are also included in the scope of this investigation.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. Battered shrimp is a shrimp-based product that, when dusted in accordance with the definition of dusting above, is coated with a wet viscous layer containing egg and/or milk, and par-fried.

The products covered by this investigation are currently classified under the following HTS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTS subheadings are provided for convenience and for customs purposes only and are not dispositive, but rather the written description of the scope of this investigation is dispositive.

Continuation of Suspension of Liquidation

Pursuant to 735(c)(1)(B) of the Act, we will instruct CBP to continue to suspend liquidation of all entries of certain frozen warmwater shrimp and prawns from Vietnam entered, or withdrawn from warehouse, for consumption on or after July 16, 2004, the date of publication of the Preliminary Determination. CBP shall continue to require a cash deposit or the posting of a bond equal to the estimated amount by which the normal value exceeds the U.S. price as shown above. These instructions suspending liquidation will remain in effect until further notice.

With regard to canned warmwater shrimp and prawns, CBP shall discontinue suspension of liquidation of all shipments of this merchandise entered, or withdrawn from warehouse, for consumption on or after July 16, 2004. All estimated antidumping duties deposited on entries of the canned warmwater shrimp and prawns from Vietnam shall be refunded and the bonds or other security released at the time of liquidation.

This order is published in accordance with section 736(a) of the Act and 19 CFR 351.211.

Dated: January 26, 2005.
Joseph A. Spetrini,
Acting Assistant Secretary for Import Administration.

[FR Doc. E5-372 Filed 1-31-05; 8:45 am]

BILLING CODE 3510-DS-P